DEPARTMENT OF AGRICULTURE

Forest Service

36 CFR Part 220

RIN 0596-AD31

National Environmental Policy Act (NEPA) Compliance

AGENCY: Forest Service, USDA.

ACTION: Proposed rule; extension of comment period.

SUMMARY: On June 13, 2019, the U.S. Department of Agriculture, Forest Service (Agency) published a proposed rule to revise its National Environmental Policy Act (NEPA) regulations. The Agency is extending the comment period on the proposed rule, which was scheduled to close on August 12, 2019, for 14 days until August 26, 2019.

DATES: The comment period for the proposed rule published June 13, 2019, at 84 FR 27544, is extended. Comments must be received in writing by August 26, 2019.

ADDRESSES: Please submit comments via one of the following methods:

1. Public participation portal (preferred): https://www.regulations.gov/.

2. Mail: NEPA Services Group, c/o Amy Barker; USDA Forest Service, 125 South State Street, Suite 1705, Salt Lake City, UT 84138.

3. Email: nepa-procedures-revision@fs.fed.us.

All comments, including names and addresses when provided, are placed in the record and are available for public inspection and copying. The public may inspect comments received online via the public reading room at https://www.regulations.gov/.

The proposed rule and supporting information is available at https://www.fs.fed.us/emc/nepa/revisions/index.shtml.

FOR FURTHER INFORMATION CONTACT: Christine Dawe; Director, Ecosystem Management Coordination; 406-370-8865. Individuals who use telecommunication devices for the deaf (TDD) may call the Federal Information Relay Service (FIRS) at 1-800-877-8339 between 8:00 a.m. and 8:00 p.m., Eastern Standard Time, Monday through Friday.

Dated: August 6, 2019.
Christopher B. French,
Deputy Chief, National Forest System.

[FR Doc. 2019-17071 Filed 8-8-19; 8:45 am]

BILLING CODE 3411-15-P